DEPARTMENT OF THE INTERIOR

National Park Service

[NPS-WASO-NAGPRA-NPS0039264; PPWOCRADN0-PCU00RP14.R50000]

Notice of Intended Disposition: U.S. Department of Agriculture, Forest Service, Mendocino National Forest, Willows, CA

AGENCY: National Park Service, Interior.

ACTION: Notice.

SUMMARY: In accordance with the Native American Graves Protection and Repatriation Act (NAGPRA), the U.S. Department of Agriculture, Forest Service, Mendocino National Forest intends to carry out the disposition of human remains or objects of cultural patrimony removed from Federal or Tribal lands to the lineal descendants, Indian Tribe, or Native Hawaiian organization with priority for disposition in this notice.

DATES: Disposition of the human remains or cultural items in this notice may occur on or after January 29, 2025. If no claim for disposition is received by December 30, 2025, the human remains or cultural items in this notice will become unclaimed human remains or cultural items.

ADDRESSES: Wade McMaster, Mendocino National Forest Supervisor, U.S. Department of Agriculture, Forest Service, Mendocino National Forest, 825 N. Humboldt Avenue, Willows, CA 95988, telephone (530) 934-3316, email wade.mcmaster@usda.gov.

SUPPLEMENTARY INFORMATION: This notice is published as part of the National Park Service's administrative responsibilities under NAGPRA. The determinations in this notice are the sole responsibility of the Mendocino National Forest and additional information on the human remains or cultural items in this notice, including the results of consultation, can be found in the related records. The National Park Service is not responsible for the identifications in this notice.

Abstract of Information Available

TEH-926

Based on the information available, human remains representing, at least, one individual (Ancestor) has been reasonably identified. The 239 objects of cultural patrimony are various stone tools (milling slabs, manos, etc.), debitage, and unmodified faunal remains. No funerary objects or sacred objects have been identified based on the available documentation from the rest of the collection.

CA-TEH-926 is located in Tehama County, California on the Mendocino National Forest. The fragmentary human remains, representing at minimum one individual, and objects of cultural patrimony were removed from the site in 1999. Excavations at CA-TEH-926 took place via a Passport in Time (PIT) project as part of the larger Nomlaki Archaeological Research project which began in 1996. Tribal members from the Paskenta Band of Nomlaki Indians and Round Valley Indian Reservation were present during all phases of fieldwork. Based on existing documentation, at the time of excavation, identified human remains were left in situ and the respective unit terminated. The human remains identified as part of this Notice were initially misidentified as nonhuman animal and were discovered in September 2024.

TEH-984

Based on the information available, human remains representing, at least, two individuals (Ancestors) have been reasonably identified. No associated funerary objects are present. The 1,035 objects of cultural patrimony are unmodified and modified faunal remains, modified stone tools (including bifaces, edge modified flakes, hammerstones, hand stones, milling stones, drills, etc.), projectile points, debitage, and various plant seeds. No funerary objects or sacred objects have been identified based on the available documentation.

The fragmentary human remains, representing at minimum two individuals, and objects of cultural patrimony were removed from CA-TEH-984 between 1999 and 2000. Excavations at CA-TEH-984 took place via a Passport in Time (PIT) project as part of the larger Nomlaki Archaeological Research project which began in 1996. The site is classified as a seasonal base camp culturally affiliated with the Nomlaki due to its geographic location. At the time of excavation, all identified human remains remained in situ per the established Plan of Action. The fragmentary human remains identified as part of this Notice were initially misidentified as nonhuman animal and only identified as human during subsequent cataloging efforts. The previously unknown human remains were discovered in September 2024.

TEH-1722

Based on the information available, human remains representing, at least, two individuals (Ancestors) have been reasonably identified. The 851 objects of cultural patrimony are unmodified and modified faunal remains, modified stone tools (including bifaces, edge modified flakes, hammerstones, hand stones, milling stones, drills, etc.), projectile points, debitage, and various plant seeds. No funerary objects or sacred objects have been identified based on the available documentation.

CA-TEH-1722 is located in Tehama County, California on the Mendocino National Forest. The fragmentary human remains, representing at minimum two individuals, and 851 cultural objects were removed from the site between 1996 and 1997. The excavations were conducted as part of a Passport in Time (PIT) project under the larger Nomlaki Archaeological Research Project which began following requests for archaeological research from the Paskenta Band of Nomlaki Indians. Tribal members were present and participated in the 1996 and 1997 excavations. The artifact assemblage indicates significant seasonal occupation at the site by the Nomlaki. The fragmentary human remains were not identified at the time of excavation and thus were likely initially misidentified as nonhuman animal. The previously unknown human remains identified as part of this Notice were discovered in September 2024.

Determinations

The Mendocino National Forest has determined that:

• The human remains described in this notice represent the physical remains of five individuals of Native American ancestry.

• The 2,125 objects of cultural patrimony described in this notice have ongoing historical, traditional, or cultural importance central to the Native American group, including any constituent sub-group (such as a band, clan, lineage, ceremonial society, or other subdivision), according to the Native American traditional knowledge of an Indian Tribe or Native Hawaiian organization.

• The Paskenta Band of Nomlaki Indians of California have priority for disposition of the human remains and cultural items described in this notice.

Claims for Disposition

Written claims for disposition of the human remains or cultural items in this notice must be sent to the appropriate official identified in this notice under ADDRESSES. If no claim for disposition is received by December 30, 2025, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after January 29, 2025. If competing claims for disposition are received, the Mendocino National Forest must determine the most appropriate claimant prior to disposition. Requests for joint disposition of the human remains or cultural items are considered a single request and not competing requests. The Mendocino National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: December 19, 2024.
Melanie O'Brien,
Manager, National NAGPRA Program.

[FR Doc. 2024-31295 Filed 12-27-24; 8:45 am]

BILLING CODE 4312-52-P